SECURITIES AND EXCHANGE COMMISSION

[File No. 500-1]

In the Matter of Bravo Enterprises Ltd.; Immunotech Laboratories, Inc.; Myriad Interactive Media, Inc.; Wholehealth Products, Inc.; Order of Suspension of Trading

November 20, 2014.

It appears to the Securities and Exchange Commission that there is a lack of current and accurate information concerning the securities of the issuers listed below.

1. Bravo Enterprises Ltd. is a Nevada corporation with its principal place of business in Patchogue, New York. Questions have arisen concerning the accuracy and adequacy of publicly disseminated information, including information about the relationship between the company's business prospects and the current Ebola crisis. The company is quoted on OTC Link (previously “Pink Sheets”) operated by OTC Markets Group Inc. (“OTC Link”), under the stock symbol OGNG.

2. Immunotech Laboratories, Inc. is a Nevada corporation with its principal place of business in Monrovia, California. Questions have arisen concerning the accuracy and adequacy of publicly disseminated information, including information about the relationship between the company's business prospects and the current Ebola crisis. The company is quoted on OTC Link under the stock symbol IMMB.

3. Myriad Interactive Media, Inc. is a Delaware corporation with its principal place of business in Toronto, Canada. Questions have arisen concerning the accuracy and adequacy of publicly disseminated information, including information about the relationship between the company's business prospects and the current Ebola crisis. The company is quoted on OTC Link under the stock symbol MYRY.

4. Wholehealth Products, Inc. is a Nevada corporation with its principal place of business in Anaheim, California. Questions have arisen concerning the accuracy and adequacy of publicly disseminated information, including information about the relationship between the company's business prospects and the current Ebola crisis. The company is quoted on OTC Link under the stock symbol GWPC.

The Commission is of the opinion that the public interest and the protection of investors require the suspension of trading in the securities of the above-listed companies.

Therefore, it is ordered, pursuant to Section 12(k) of the Securities Exchange Act of 1934, that trading in the securities of the above-listed companies is suspended for the period from 9:30 a.m. EST, on November 20, 2014, through 11:59 p.m. EST, on December 4, 2014.

By the Commission.
Jill M. Peterson,
Assistant Secretary.

[FR Doc. 2014-27881 Filed 11-20-14; 11:15 am]

BILLING CODE 8011-01-P